DEPARTMENT OF AGRICULTURE

Agricultural Marketing Service

[Doc. No. AMS-SC-24-0037]

Fruit and Vegetable Industry Advisory Committee Call for Nominations

AGENCY: Agricultural Marketing Service, USDA.

ACTION: Notice; call for nominations.

SUMMARY: The Fruit and Vegetable Industry Advisory Committee (FVIAC or Committee) was established to develop recommendations for submission to the Secretary of Agriculture (Secretary) on issues affecting the U.S. produce industry. Through this notice, the USDA is requesting nominations to fill up to 25 upcoming vacancies on the FVIAC. The Secretary will appoint industry representative to serve a two-year term of office that would commence in 2024. The Secretary invites those individuals, organizations, and groups affiliated with the categories listed in the SUPPLEMENTARY INFORMATION section to nominate individuals or themselves for membership on the FVIAC.

DATES: Nomination packages, including a cover letter to the Secretary, the nominee's typed resume or curriculum vitae, and a completed USDA Advisory Committee Membership Background Information Form AD-755, must be postmarked on or before September 3, 2024.

ADDRESSES: Nomination packages may be submitted electronically by Email to SCPFVIAC@usda.gov, or mailed to: Jennie M. Varela, U.S. Department of Agriculture, 1124 1st Street South, Winter Haven, FL, 33880; Attn: Fruit and Vegetable Industry Advisory Committee. Electronic submittals are preferred.

FOR FURTHER INFORMATION CONTACT: Miss Jennie Varela, Designated Federal Officer, Telephone at (202) 658-8616 or by Email SCPFVIAC@ams.usda.gov.

SUPPLEMENTARY INFORMATION: The purpose of the FVIAC is to examine the full spectrum of issues faced by the fruit and vegetable industry and provide suggestions and ideas to the Secretary on how USDA can tailor its programs to better meet the fruit and vegetable industry's needs.

The USDA is seeking members who represent the fruit and vegetable industry including fruit and vegetable growers/shippers; fruit and vegetable wholesalers/receivers; brokers; retailers; fruit and vegetable processors and fresh-cut processors; foodservice suppliers; organic and non-organic farmers; farmers markets and community-supported agricultural organizations; state agriculture departments; and trade associations. Industry members are appointed by the Secretary and serve 2-year terms, with a maximum of three 2-year terms.

Please note that individuals who are registered as Federal lobbyists are not eligible to serve on Federal advisory committees in an individual capacity. See “Revised Guidance on Appointment of Lobbyists to Federal Advisory Committees, Boards, and Commissions,” 79 FR 47482 (Aug. 13, 2014). Members can only serve on one USDA advisory committee at a time. All nominees will undergo a USDA background check.

The following must be submitted to nominate yourself or someone else to the FVIAC: a resume or curriculum vitae, a USDA Advisory Committee Membership Background Information Form AD-755—available online at https://www.usda.gov/sites/default/files/documents/ad-755.pdf, and a cover letter to the Secretary. A list of endorsements or letters of recommendation, and a biography may also be submitted. The resume or curriculum vitae must be limited to five one-sided pages and should include a summary of the following information: current and past organization affiliations; areas of expertise; education; career positions held; and any other notable positions held. For submissions received that are more than five one-sided pages in length, only the first five pages will be reviewed.

The Secretary appointed 25 members in 2022. Two (2) members have served two terms and twenty-three (23) members have served one term, which all expire October 28, 2024. The Secretary will appoint members for the upcoming vacancies to serve a 2-year term of office beginning in 2024 and ending in 2026. Nominations received that could fill future unexpected vacancies in any of the position categories will be held as a pool of candidates that the Secretary can draw upon as replacement appointees if unexpected vacancies occur. A person appointed to fill a vacancy will serve for the remainder of the 2-year term of the vacant position.

The Deputy Administrator of the AMS Specialty Crops Program serves as the FVIAC Executive Secretary. Representatives from USDA mission areas and agencies affecting the fruit and vegetable industry could be called upon to participate in the FVIAC's meetings as determined by the FVIAC Executive Secretary and the FVIAC.

The full Committee expects to meet at least twice a year in-person (or by computer-based conferencing), and the meetings will be announced in the Federal Register. Committee workgroups or subcommittees will meet as deemed necessary by the chairperson and may meet through teleconference or by computer-based conferencing. Subcommittees may invite technical experts to present information for consideration by the subcommittee. The subcommittee meetings will not be announced in the Federal Register. All data and records available to the full Committee are expected to be available to the public when the full Committee reviews and approves the work of the subcommittee(s). Members must be prepared to work outside of scheduled Committee and subcommittee meetings and may be required to assist in document preparation. Committee members serve on a voluntary basis; however, travel expenses and per diem reimbursement are available.

The Secretary seeks a diverse group of members representing a broad spectrum of persons interested in providing suggestions and ideas on how USDA can tailor its programs to meet the fruit and vegetable industry's needs. Equal opportunity practices will be followed in all appointments to the FVIAC in accordance with USDA policies. To ensure that the recommendations of the FVIAC have taken into account the needs of the diverse groups served by the Department, membership shall include, to the extent practicable, individuals with demonstrated ability to represent the many communities, identities, races, ethnicities, backgrounds, abilities, cultures, and beliefs of the American people, including underserved communities.

The information collection requirements concerning the nomination process have been previously cleared by the Office of Management and Budget (OMB) under OMB Control No. 0505-0001.

Dated: June 27, 2024.
Cikena Reid,
Committee Management Officer.

[FR Doc. 2024-14598 Filed 7-2-24; 8:45 am]

BILLING CODE 3410-02-P